DEPARTMENT OF ENERGY

Notice Establishing Technical Conference

[San Diego Gas & Electric Company, Complaint, v. Sellers of Energy and Ancillary Services Into Markets Operated by the California Independent System Operator and the California Power Exchange, Respondents; Investigation of Practices of the California Independent System Operator and the California Power Exchange, Public Meeting in San Diego, California; Reliant Energy Power Generation, Inc., Dynegy Power Marketing, Inc., and Southern Energy California, L.L.C., Complaints, v. California Independent System Operator Corporation, Respondent; California Electricity Oversight Board, Complainant, v. All Sellers of Energy and Ancillary Services Into the Energy and Ancillary Services Markets Operated by the California Independent System Operator and the California Power Exchange, Respondents; California Municipal Utilities Association, Complainant, v. All Jurisdictional Sellers of Energy and Ancillary Services Into Markets Operated by the California Independent System Operator and the California Power Exchange, Respondents; Californians for Renewable Energy, Inc. (CARE), Complainant, v. Independent Energy Producers, Inc., and All Sellers of Energy and Ancillary Services Into Markets Operated by the California Independent System Operator and the California Power Exchange; All Scheduling Coordinators Acting on Behalf of the Above Sellers; California Independent System Operator Corporation; and California Power Exchange Corporation, Respondents; Puget Sound Energy, Inc., Complainant, v. All Jurisdictional Sellers of Energy and/or Capacity at Wholesale Into Electric Energy and/or Capacity Markets in the Pacific Northwest, Including Parties to the Western Systems Power Pool Agreement, Respondents; Docket Nos. EL00-95-000, EL00-95-002 and EL00-95-003; EL00-98-000, EL00-98-002 and EL00-98-003; EL00-107-000; EL00-97-000; EL00-104-000; EL01-1-000; EL01-2-000; EL01-10-000]

On December 15, 2000, the Commission issued an order ¹ in Docket Nos. EL00-95-000, EL00-95-002, and EL00-95-003, et al., requiring, among other things, a technical conference on the development of market monitoring procedures for the markets involving the California Independent System Operator. The technical conference required by the December 15, 2000 order will convene at 9:30 a.m. on January 23, 2001, at 888 First Street, NE., Washington, DC, in the Commission meeting room, Room 2C. If necessary, the conference will continue through 5:30 p.m. of the same day. All parties of record and other interested parties are welcome to attend.

¹ San Diego Gas & Electric, Complainant, v. Sellers of Energy and Ancillary Services Into Markets Operated by the California Independent System Operator and the California Power Exchange, Respondents, et al. 93 FERC ¶ 61,294 (2000).

Any questions concerning the conference should be directed to Scott Miller at (202) 208-2171 or Andrea Wolfman at (202) 208-2097.

Linwood A. Watson, Jr.,
Acting Secretary.

[FR Doc. 00-33323 Filed 12-28-00; 8:45 am]

BILLING CODE 6717-01-M